DEPARTMENT OF JUSTICE

[OMB Number 1110-0060]

Agency Information Collection Activities; Proposed eCollection eComments Requested; CJIS Biographic Verification Request

AGENCY: Federal Bureau of Investigation (FBI), Department of Justice (DOJ).

ACTION: 30-Day notice.

SUMMARY: The Criminal Justice Information Services (CJIS) Division, FBI, DOJ, will be submitting the following information collection request to the Office of Management and Budget (OMB) for review and approval in accordance with the Paperwork Reduction Act of 1995. The proposed information collection was previously published in the Federal Register on March 20, 2024, allowing a 60-day comment period.

DATES: Comments are encouraged and will be accepted for 30 days until June 17, 2024.

FOR FURTHER INFORMATION CONTACT: If you have comments especially on the estimated public burden or associated response time, suggestions, or need a copy of the proposed information collection instrument with instructions or additional information, please contact: Christopher G. Vandevender, Processing Manager, FBI, CJIS, Biometric Services Section, Biometric Identification and Analysis Unit, BTC-4, 1000 Custer Hollow Road, Clarksburg, WV 26306, phone: 304-625-5789 or email: CJISBioVerify@fbi.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1110-0060. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a previously approved collection.

2. Title of the Form/Collection: CJIS Biographic Verification Request.

3. Agency form number, if any, and the applicable component of the Department of Justice sponsoring the collection: I-791; CJIS, FBI, DOJ.

4. Affected public who will be asked or required to respond, as well as a brief abstract: The form is used when an authorized noncriminal justice agency requests that the CJIS Division complete a Biographic Verification. Title 28, Code of Federal Regulations (CFR), Section 0.85 (j) sets forth the Attorney General's delegation to the FBI to implement the exchange of identity history information for noncriminal justice purposes. Additionally, 28 CFR 20.33 (a)(3) and 50.12 both further explain the dissemination of identity history information for noncriminal justice purposes. The FBI's Criminal Justice Information Services (CJIS) Division currently offers a Biographic Verification Service to noncriminal justice agencies as a way to obtain adjudicated criminal history information in cases where the required fingerprint image quality could not be achieved after two attempts for a fingerprint-based search. The service was implemented to ensure that individuals with poor quality fingerprints not be denied benefits, licensing, or employment opportunities due to non-discernible fingerprints. The information collected on the CJIS Biographic Verification Request form is required to ensure the agency requesting the service has the authority to request and obtain the results and to verify fingerprints were submitted and rejected twice for the individual of the request.

5. Obligation to Respond: The obligation is strictly voluntary; however, the form is required to obtain the benefit of the CJIS Biographic Verification Service.

6. Total Estimated Number of Respondents: Approximately 36,000.

7. Estimated Time per Respondent: 2 minutes.

8. Frequency: The frequency of submission is not mandated; the form should be used whenever a CJIS Biographic Verification is requested.

9. Total Estimated Annual Time Burden: Approximately 1,200 hours.

10. Total Estimated Annual Other Costs Burden: $0.

If additional information is required, contact: Darwin Arceo, Department Clearance Officer, Policy and Planning Staff, Justice Management Division, United States Department of Justice, Two Constitution Square, 145 N Street NE, 4W-218, Washington, DC 20530.

Dated: May 13, 2024.
Darwin Arceo,
Department Clearance Officer for PRA, U.S. Department of Justice.

[FR Doc. 2024-10779 Filed 5-15-24; 8:45 am]

BILLING CODE 4410-02-P